DEPARTMENT OF AGRICULTURE

Forest Service

Notice of Meeting; Federal Lands Recreation Enhancement Act

AGENCY: Rocky Mountain Region, Forest Service, USDA.

ACTION: Notice of Meeting.

SUMMARY: The Colorado Recreation Resource Advisory Committee will tentatively meet in Colorado Springs, CO. The purpose of the meeting is to continue to provide new members with the information they need to be effective committee members; to elect a Chair and Vice-Chair; and to review proposals for fee changes and new fee projects. These fee proposals will tentatively include two new cabin rentals, a new fee at the Buckeye Group Site, fee changes to Green Mountain Reservoir and the elimination of fees at Cataract Lake. There will also be an update of changes at the Mt. Evans fee site. Proposals can be found at http://www.fs.usda.gov/goto/r2/rac-colorado.

DATES: The meeting will be held June 12, 2012 from 9 a.m.-5 p.m. and June 13 from 8 a.m.-1:00 p.m. or when adjourned. This meeting will only be held if a quorum is present.

ADDRESSES: The meeting will be at the Clarion Hotel and Conference Center, 314 West Bijou Street, Colorado Springs, CO in the Bordeaux Room. Send written comments to Rick Cooksey, Designated Federal Officer, 2468 Jackson Street, Laramie, WY 82070 or rcooksey@fs.fed.us.

FOR FURTHER INFORMATION CONTACT: Jane Leche, Colorado Recreation Resource Advisory Committee Coordinator, at 303-275-5349 or jleche@fs.fed.us.

SUPPLEMENTARY INFORMATION: The meeting is open to the public. Committee discussion is limited to Forest Service staff and Committee members. However, persons who wish to bring recreation fee matters to the attention of the Committee may file written statements with the Committee staff before or after the meeting. A public input session will be provided and individuals who made written requests by May 29, 2012 will have the opportunity to address the Committee at the meeting.

Meeting agenda and status can be found at: http://www.fs.usda.gov/goto/r2/rac-colorado.

The Recreation RAC is authorized by the Federal Land Recreation Enhancement Act, which was signed into law by President Bush in December 2004.

Dated: May 18, 2012.
Maribeth Gustafson,
Deputy Regional Forester, Operations, Rocky Mountain Region.

[FR Doc. 2012-12731 Filed 5-25-12; 8:45 am]

BILLING CODE 3410-11-M